DEPARTMENT OF TRANSPORTATION

National Highway Traffic Safety Administration

[U.S. DOT Docket No. NHTSA-2013-0086]

Reports, Forms, and Record Keeping Requirements

AGENCY: National Highway Traffic Safety Administration (NHTSA), DOT.

ACTION: Request for public comment on proposed revision of the previously approved collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before November 4, 2013.

ADDRESSES: You may submit comments identified by DOT Docket ID Number NHTSA-2013-0086 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Kristie Johnson, Ph.D., Contracting Officer's Technical Representative, Office of Behavioral Safety Research (NTI-131), National Highway Traffic Safety Administration, 1200 New Jersey Avenue SE., W46-498, Washington, DC 20590. Dr. Johnson's phone number is 202-366-2755 and her email address is kristie.johnson@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title—NHTSA Distracted Driving Survey Project.

Type of Request—Revision of previously approved collection of information.

OMB Clearance Number—2127-0665.

Form Number—NHTSA Form 1082.

Requested Expiration Date of Approval—3 years from date of approval.

Summary of the Collection of Information—The National Highway Traffic Safety Administration (NHTSA) proposes to collect information from a random sample of 6,000 members of the general public age 16 and older. The sample will be stratified by NHTSA region, age, and gender. The National Survey on Distracted Driving Attitudes and Behaviors (NSDDAB) will ask about (a) attitudes, behaviors, and perceptions related to driving distractions and electronic device use while driving, and (b) the effectiveness of high visibility enforcement demonstration programs to increase public awareness of the dangers of, and legislation related to, distracted and unsafe driving behaviors. The estimated average amount of time to complete the survey is 20 minutes. This approval would be for the third and fourth administrations of the NSDDAB. Participation by respondents would be voluntary and anonymous. The survey will be conducted over the phone, with respondents including those in landline telephone households as well as those who primarily or exclusive use a cell phone. All results will be reported in the aggregate.

The telephone interviewers would use computer-assisted telephone interviewing. A Spanish-language translation and bilingual interviewers would be used to minimize language barriers to participation. In 2010 and 2012, NHTSA conducted the NSDDAB. The findings from the proposed information collection would build on and add to the existing knowledge on distracted driving and would help track behavior and attitude changes that can be used to tailor distraction program efforts.

Description of the Need for the Information and Proposed Use of the Information—NHTSA was established by the Highway Safety Act of 1970 (23 U.S.C. 101) to carry out a Congressional mandate to reduce the mounting number of deaths, injuries, and economic losses resulting from motor vehicle crashes on the Nation's highways. As part of this statutory mandate, NHTSA is authorized to conduct research as a foundation for the development of motor vehicle standards and traffic safety programs.

Driver distraction contributes to crash-related fatalities and injuries, particularly among younger drivers, with 13% of drivers in fatal distraction-affected crashes under age 20. Overall, 9% of fatal crashes in the United States in 2010 involved driver distraction, and 13% of the drivers in these fatal crashes were reported to have been using a cell phone at the time of the crash (National Center for Statistics and Analysis, 2012). In support of its mission, NHTSA proposes to conduct a series of telephone surveys that will examine the extent to which drivers are distracted by various activities; demographic and typological descriptions of drivers prone to distractions; the extent and frequency of using cell phones and texting while driving; attitudes and perceptions about distracted driving; knowledge of and attitudes toward measures to deter distracted driving; perceptions about the danger of distracted driving; exposure to the consequences of distracted driving; willingness to intervene when someone is distracted while driving; and changes and trends in distracted driving behavior and attitudes. The increase in cell phone ownership and usage combined with the widespread availability of many other devices that can easily divert drivers' attention from the task of driving an automobile have made information on drivers' behaviors and attitudes toward distracted driving important to the safety of America's roadways. An essential part of this effort is to compare behavior and attitude trends to determine the effects of efforts to reduce distracted driving and to identify areas where efforts should be targeted and where new strategies may be needed. Up-to-date information is essential to plot the direction of future activities aimed at reducing driver distraction and achieving reductions in crash injuries and fatalities in the coming years.

As part of its collection of information used to develop and implement effective countermeasures to improve highway traffic safety, NHTSA conducted its first NSDDAB in 2010. As in previous years, NHTSA proposes to make a small number of revisions to the survey instrument to address new information needs. This will include adding a small number of drowsy driving questions. If approved, the proposed survey would assist NHTSA in identifying distracted driving behaviors and attitudes and in formulating programs and recommendations. The results of the proposed survey would be used to: (a) identify commonalities among distracted drivers so that current programs can be targeted to achieve the greatest benefit; (b) develop new programs and initiatives aimed at reducing distracted driving; and (c) provide informational support to States in their traffic safety efforts to reduce distracted driving.

Description of the Likely Respondents (Including Estimated Number, and Proposed Frequency of Response to the Collection of Information)—This proposed effort would involve cognitive testing of the questionnaires (if significant changes are made to the questionnaire), and telephone survey administration. The cognitive testing would consist of one-on-one cognitive interviews with each of nine persons selected from the general public for the questionnaire, for a total of 9 cognitive interviews. All would be drivers 18 and older. For the national telephone survey, the 20 minute survey will be administered biennially to 6,000 randomly selected members of the general public age 16 and older who drive, including those in landline telephone households as well as those who primarily or exclusive use a cellular phone. For interviews conducted with persons using landline phones, no more than one respondent per household would be selected. For interviews conducted with persons on cell phones, a single user of the cell phone would be selected. Each sample member would complete just one interview. Businesses are ineligible for the sample and would not be interviewed. The respondent sample would be selected from all 50 States plus the District of Columbia.

Estimate of the Total Annual Reporting and Record Keeping Burden Resulting from the Collection of Information—NHTSA estimates that the respondents participating in the cognitive interviewing would average 1½ hours to carry out that activity, for a total of 13.5 hours for the 9 cognitive interviews. The 6,000 survey interviews, with an average duration of 20 minutes, would produce a burden of 2,000 hours. The maximum annual reporting burden for the NSDDAB would be 13.5 hours for the cognitive testing and 2,000 hours for the telephone survey for a grand total of 2,027 hours. Interviewing for each round of the questionnaire would occur during a single calendar year with the survey conducted biennially. Thus, the annual reporting burden would be 2,027 hours × 2 collection periods for a total of 4,054 hours. The respondents would not incur any reporting cost from the information collection. The respondents also would not incur any record keeping burden or record keeping cost from the information collection.

Authority: 44 U.S.C. 3506(c)(2)(A).

Issued on: August 30, 2013.
Jeff Michael,
Associate Administrator, Research and Program Development.

[FR Doc. 2013-21556 Filed 9-4-13; 8:45 am]

BILLING CODE 4910-59-P